DEPARTMENT OF THE INTERIOR

Bureau of Land Management

[MT-073-00-1990-AC]

Resource Advisory Council Meeting, Butte, Montana

AGENCY: Bureau of Land Management, Interior.

ACTION: Notice of meeting.

SUMMARY: The Western Montana Resource Advisory Council will convene on January 9, 2001, from 9:00 a.m. to 4:00 p.m., at the BLM Butte Field Office, 106 North Parkmont, Butte, Montana, 59701.

The topic for the meeting will be a discussion on future issues to be addressed by the Western Montana Resource Advisory Council.

The meeting is open to the public and written comments can be given to the Council. Oral comments may be presented to the Council at 11:30 a.m. The time allotted for oral comment may be limited, depending on the number of persons wishing to be heard. Individuals who plan to attend and need further information about the meeting, or who need special assistance, such as sign language or other reasonable accommodations, should contact Jean Nelson-Dean, Resource Advisory Coordinator, at the Butte Field Office, 106 North Parkmont, P.O. Box 3388, Butte, Montana 59702-3388, telephone 406-533-7617.

FOR FURTHER INFORMATION CONTACT: Richard Hotaling, Butte Field Manager, 406-494-5059, or Jean Nelson-Dean at the above address and telephone number.

Dated: December 1, 2000.
Richard Hotaling,
Field Manager.

[FR Doc. 00-31260 Filed 12-7-00; 8:45 am]

BILLING CODE 4310-DN-P